DEPARTMENT OF JUSTICE

National Institute of Corrections

Solicitation for a Cooperative Agreement—Development of a Core Correctional Practices Curriculum

AGENCY: National Institute of Corrections, U.S. Department of Justice.

ACTION: Solicitation for a Cooperative Agreement.

SUMMARY: The National Institute of Corrections (NIC) is soliciting proposals from organizations, groups, or individuals to enter into a cooperative agreement for a nine-month project period for the development of a competency-based and performance-driven curriculum that will provide corrections professionals with the knowledge and skills to facilitate effective changes in individual offender's behavior. The curriculum will be on two levels: (1) Training line staff who work with offenders under correctional supervision and (2) training those who train line staff who work with offenders.

DATES: Applications must be received by 4 p.m. EST on Monday, April 9, 2012.

ADDRESSES: Applicants are encouraged to submit their proposals electronically via http://www.grants.gov. Mailed applications must be sent to: Director, National Institute of Corrections, 320 First Street NW., Room 5002, Washington, DC 20534. If submitted in hard copy, there must be an original and three unbound copies of the full proposal. The original should have the applicant's signature in blue ink. Applicants are encouraged to use Federal Express, UPS, or similar service to ensure delivery by the due date.

Faxed applications will not be accepted.

FOR FURTHER INFORMATION CONTACT: A copy of this announcement can be downloaded from the NIC Web site at www.nicic.gov. All technical or programmatic questions concerning this announcement should be directed to Bernie Iszler, Correctional Program Specialist, National Institute of Corrections. She can be reached by calling 303-338-6618 or by email at biszler@bop.gov. All questions, answers, and additional information related to this solicitation will be linked to its announcement on the NIC Web site at http://nicic.gov/cooperativeagreements during the time this solicitation remains open.

Related Solicitation: NIC is issuing two separate, but closely related solicitations in March 2012: This one and a second one titled “Curriculum Development for MET, ECCP, and ICMS Training Project”. Two separate awards will be made through these two solicitations. Applicants may submit proposals under both of these solicitations, but the two awards will be made independently of one another and each project will be managed separately.

SUPPLEMENTARY INFORMATION:

Background

For many years, NIC has been committed to promoting risk reduction through the use of evidence-based policies and practices. More specifically, for corrections line staff, NIC has developed and supported Thinking for a Change, a synthesized cognitive behavioral offender group intervention (see http://nicic.gov/Library/025057); created several iterations of training on interpersonal communications skills (see http://nicic.gov/Training/NICWBT18 and http://nicic.gov/Library/020035); and supported the dissemination of information on motivational interviewing (see http://nicic.gov/MotivationalInterviewing).

In addition, recent work in training probation officers on how to combine the risk-need-responsivity model of offender rehabilitation with “techniques of influence” (structured skills, intervention techniques, and behaviors) has resulted in positive outcomes for individual interventions with offenders (see http://www.publicsafety.gc.ca/res/cor/rep/_fl/2010-01-rnr-eng.pdf).

Several curricula for individual offender interventions have been developed that use combinations of cognitive-behavioral techniques, motivational interviewing, cognitive restructuring, relationship building, and role clarification. These include the Strategic Training Initiative in Community Supervision (STICS) by Public Safety Canada; Effective Practices in Community Supervision (EPICS) by the University of Cincinnati Corrections Institute; Strategic Techniques Aimed at Reducing Rearrest (STARR) by the Administrative Office of the United States Courts, Office of Probation and Pretrial Services; Effective Practices in Correctional Settings II (EPICS II) by Christopher T. Lowenkamp, Charles R. Robinson, & Melanie S. Lowenkamp; and Working with Involuntary Clients by Chris Trotter. Because each of these intervention tools have been created for frontline corrections staff to use in affecting offender change, NIC sees the current environment as a moment of opportunity to create a curriculum for an individual intervention strategy that uses adult learning research (see NIC ITIP Toolkit http://nicic.gov/Library/024773) and leverages a blend of delivery platforms (synchronous, asynchronous, and classroom) to teach corrections professionals how to train, implement, and coach frontline staff in effective core correctional practices.

Scope of Work: Tasks to be performed under this cooperative agreement include the following:

(1) The creation of two curricula: one that will be training for staff and a second one that will be training for trainers. Both curricula will have two levels. The level 1 curriculum will be for case managers, probation officers, parole officers, and other corrections staff who have case management time with offenders. The level 2 curriculum will be for corrections officers, line staff, and others who interact with offenders regularly but do not have case management duties. In effect, level 2 will be for corrections staff who directly supervise offenders. The curriculum will be based on the Effective Practices in Correctional Settings II (EPICS-II) by Christopher T. Lowenkamp, Charles R. Robinson, & Melanie S. Lowenkamp and Strategic Techniques Aimed at Reducing Rearrest (STARR) by the Administrative Office of the US Courts, Office of Probation and Pretrial Services (permission has been obtained for use of the curricula), and “Interpersonal Communications in the Correctional Setting: IPC” by the National Institute of Corrections (NIC accession #020035).

The curriculum developed by the awardee should allow for the use of blended elements, including classroom or individual instruction, e-courses, and virtual instructor-led training as well as coaching/feedback. A blended process could include the following elements: (A) Agency and facilitator/trainer/coach readiness survey: virtual instructor-led training (VILT), and a WebEx. (B) Orientation: VILT, expectations, outline, and an agency plan (practices, recordings, job coaching, job aids). (C) Background information: e-course, theory, history, and research (adult learning and evidence-based practices). (D) Model-skill steps: recorded sessions, Participant workbook, and a blog/forum discussion. (E) Guided practice with scenarios: VILT and a question guide. (F) Demos/tryouts: instructor-led training where size of groups could vary, and coaching of agency trainers/coaches.

(2) The creation of a Core Correctional Practices Training for Trainers curriculum.

(3) The delivery of the CCP training and CCP training for trainers to a pilot site to be identified by NIC, evaluation of the pilot training, and revisions to curricula after pilot site delivery.

(4) Participation in organizational planning meetings with NIC staff and subject matter experts. Awardee expenses for these meetings are limited to the awardee's own project team's costs of travel, lodging and meals, incidental expenses, and compensation. Awardees should plan on at least one 2-day meeting to take place at the NIC National Corrections Academy in Aurora, Colorado. Participation in other planning and coordination meetings will take place as necessary throughout the life of the project through teleconferences and WebEx meetings.

(5) The delivery of a full report on the project together with all the materials developed during the project and in a design and format appropriate for public dissemination. A draft of these materials must be submitted prior to the end of the project and follow NIC's requirements for documents or other media.

Specific Requirements: Documents or other media that are produced under this award must follow these guidelines: Prior to the preparation of the final draft of any document or other media, the awardee must consult with NIC's writer/editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other media submitted for posting on the NIC Web site must meet the federal government's requirement for accessibility (508 PDF or HTML file). The awardee must provide descriptive text interpreting all graphics, photos, graphs, and/or multimedia to be included with or distributed alongside the materials and must provide transcripts for all applicable audio/visual works.

Application Requirements: Applications should be concisely written, typed double spaced and reference the project by the “NIC Opportunity Number” and title in this announcement. The package must include a cover letter that identifies the audit agency responsible for the applicant's financial accounts as well as the audit period or fiscal year that the applicant operates under (e.g., July 1 through June 30); a program narrative not to exceed 30 pages in response to the statement of work; and a budget narrative explaining projected costs. Applicants may submit a description of the project team's qualifications and expertise relevant to the project but should not attach lengthy resumes. Large attachments to the proposal describing the organization are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements available at http://nicic.gov/Downloads/General/certif-frm.pdf. Failure to supply all required forms with the application package will result in disqualification of the application from consideration.

Authority: Public Law 93-415

Funds Available: NIC is seeking the applicant's best ideas regarding accomplishment of the scope of work and the related costs for achieving the goals of this solicitation. Funding is set at $64,000.00. Funds may be used only for the activities that are linked to the desired outcome of the project.

Eligibility of Applicants: An eligible applicant is any public or private agency, educational institution, organization, individual, or team with expertise in the described areas.

Review Considerations

Applications received under this announcement will be subject to the NIC review process. Proposals that fail to provide sufficient information to have them evaluated under the criteria below may be judged non-responsive and disqualified. The criteria for the evaluation of each application will be as follows:

Progammatic (40%)

Are all of the five project tasks adequately discussed? Is there a clear statement of how each task will be accomplished, including major sub-tasks, the strategies to be employed, required staffing, and other required resources? Are there any innovative approaches, techniques, or design aspects proposed that will enhance the project?

Organizational (35%)

Does the proposed project staff possess the skills, knowledge, and expertise necessary to complete the tasks listed under the scope of work? Does the applicant organization, group, or individual have the organizational capacity to achieve all five project tasks? Are the proposed project management and staffing plans realistic and sufficient to complete the project within the project time frame?

Project Management/Administration (25%)

Does the applicant identify reasonable objectives, milestones, and measures to track progress? If the applicant proposes consultants and/or partnerships, is there a reasonable justification for their inclusion in the project and a clear structure to ensure effective coordination? Is the proposed budget realistic, does it provide a sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Number of Awards: One.

NIC Opportunity Number: 12AC05. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-7016 Filed 3-22-12; 8:45 am]

BILLING CODE 4410-36-P